DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: National Security and Critical Technology Assessments of the U.S. Industrial Base.

OMB Control Number: 0694-0119.

Form Number(s): N/A.

Type of Request: Regular.

Burden Hours: 308,000.

Number of Respondents: 28,000.

Average Hours Per Response: 11.

Needs and Uses: The Department of Commerce/BIS, in coordination with other government agencies and private entities, conduct assessments of U.S. industries deemed critical to our national security. The information gathered is needed to assess the health and competitiveness as well as the needs of the targeted industry sector in order to maintain a strong U.S. industrial base. Data obtained from the surveys will be used to prepare an assessment of the current status of the targeted industry, addressing production, technological developments, economic performance, employment and academic trends, and international competitiveness. This is a generic information collection and each survey is approved by OMB before being used for the assessment.

Affected Public: Business and other for-profit organizations.

Frequency: On occasion.

Respondent's Obligation: Mandatory.

OMB Desk Officer: Jasmeet Seehra, (202) 395-3123.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Jasmeet Seehra, OMB Desk Officer, via email to Jasmeet_K._Seehra@omb.eop.gov or fax to (202) 395-5167.

Dated: January 16, 2013.
Gwellnar Banks,
Management Analyst, Office of the Chief Information Officer.

[FR Doc. 2013-01227 Filed 1-22-13; 8:45 am]

BILLING CODE 3510-33-P